DEPARTMENT OF HEALTH AND HUMAN SERVICES

Centers for Disease Control and Prevention

[Docket No. CDC-2017-0059]

Notice of Availability of Final Environmental Impact Statement; Site Acquisition and Campus Consolidation for the Centers for Disease Control and Prevention/National Institute for Occupational Safety and Health (CDC/NIOSH), Cincinnati, Ohio

AGENCY: Centers for Disease Control and Prevention (CDC), Department of Health and Human Services (HHS).

ACTION: Notice of availability.

SUMMARY: The Centers for Disease Control and Prevention (CDC) within the Department of Health and Human Services (HHS), in cooperation with the U.S. General Services Administration (GSA), announces the availability of the Final Environmental Impact Statement (EIS) for the proposed acquisition of a site in Cincinnati, Ohio, and the development of this site into a new, consolidated CDC/National Institute for Occupational Safety and Health (NIOSH) campus (Proposed Action). The site being considered for acquisition and development is bounded by Martin Luther King Drive East to the south, Harvey Avenue to the west, Ridgeway Avenue to the north, and Reading Road to the east.

The Final EIS and this notice are published pursuant to the requirements of the National Environmental Policy Act of 1969 (NEPA) as implemented by the Council on Environmental Quality (CEQ) Regulations.

DATES: CDC will issue a final decision on the proposed action after August 20, 2018.

ADDRESSES: Copies of the Final EIS can be obtained at:

• Federal eRulemaking Portal: http://www.regulations.gov (reference Docket No. CDC-2017-0059).

• By Written Request (Electronic Copies Only) to: cdc-cincinnati-eis@cdc.gov or Harry Marsh, Architect, Office of Safety, Security and Asset Management (OSSAM), Centers for Disease Control and Prevention, 1600 Clifton Road NE, MS-K80, Atlanta, Georgia 30329-4027.

All U.S. Mail communications must include the agency name and Docket Number.

FOR FURTHER INFORMATION CONTACT: Harry Marsh, Architect, Office of Safety, Security and Asset Management (OSSAM), Centers for Disease Control and Prevention, 1600 Clifton Road NE, MS-K80, Atlanta, Georgia 30329-4027, phone: (770) 488-8170, or email: cdc-cincinnati-eis@cdc.gov.

SUPPLEMENTARY INFORMATION:

Background: CDC is dedicated to protecting health and promoting quality of life through the prevention and control of disease, injury, and disability. NIOSH, one of CDC's Centers, Institutes, and Offices, was established by the Occupational Safety and Health Act of 1970. NIOSH plans, directs, and coordinates a national program to develop and establish recommended occupational safety and health standards; conduct research and training; provide technical assistance; and perform related activities to assure safe and healthful working conditions for every working person in the United States.

Currently, three NIOSH research facilities—the Robert A. Taft Campus, Taft North Campus, and the Alice Hamilton Laboratory Campus—are located in Cincinnati, Ohio. These facilities no longer meet the research needs required to support occupational safety and health in the modern workplace. The facilities' deficiencies adversely affect NIOSH's ability to conduct occupational safety and health research in Cincinnati. It is not possible to renovate the facilities located on the three campuses to meet current standards and requirements. Additionally, the current distribution of NIOSH activities across separate campuses in Cincinnati results in inefficiencies in scientific collaboration and the duplication of operational support activities. Therefore, CDC is proposing to relocate and consolidate its Cincinnati-based functions and personnel (approximately 550 employees) currently housed at the three existing campuses to a new, consolidated campus in Cincinnati.

Potential locations for the proposed new campus were identified through a comprehensive site selection process conducted by GSA on behalf of CDC. In June 2016, GSA issued a Request for Expressions of Interest (REOI) seeking potential sites capable of accommodating the proposed new campus. In response to the REOI, GSA received seven expressions of interest. Following an assessment of each site, GSA found that only one site qualified for further consideration (The Site). The Site encompasses all land between Martin Luther King Drive East to the south, Harvey Avenue to the west, Ridgeway Avenue to the north, and Reading Road to the east in Cincinnati, Ohio.

Under NEPA, as implemented by CEQ Regulations (40 CFR parts 1500-1508), Federal agencies are required to evaluate the environmental effects of their proposed actions and a range of reasonable alternatives to the proposed action before making a decision. On February 9, 2018, in accordance with NEPA, CDC published a Notice of Availability announcing that a Draft EIS for the proposed acquisition and campus consolidation had been prepared (83 FR 5774). The Draft EIS evaluated the potential impacts of two alternatives: The Proposed Action Alternative (acquisition of the Site and construction of a new, consolidated CDC/NIOSH campus) and the No Action Alternative (continued use of the existing campuses for the foreseeable future). Impacts on the following resources were considered: Land use, zoning, and plans; community facilities; socioeconomics and environmental justice; utilities and infrastructure; visual quality; cultural resources; transportation; geology, topography, and soils; air quality; noise; and hazardous substances.

Publication of the Draft EIS notice initiated a 45-day review period, which ended on March 26, 2018. During this period, CDC received comments from government agencies, a Native American tribe, and the public. These comments pertained to the proposed action in general; the accessibility of the proposed campus site for bicyclists; historic buildings; traffic and air quality impacts; sustainability; and the potential displacement of neighborhood residents.

All comments were considered when preparing the Final EIS and responses to the comments are provided in the Final EIS. No comment required substantive revisions to the analyses presented in the Draft EIS or to the alternatives considered. The Final EIS identifies the Proposed Action Alternative as CDC's Preferred Alternative.

CDC will make a decision on whether to proceed with the proposed action after August 20, 2018. At that time, CDC will issue a Record of Decision documenting and explaining its decision based on the Final EIS.

Questions on the Final EIS and the proposed action may be directed to: Harry Marsh, Architect, Office of Safety, Security and Asset Management (OSSAM), Centers for Disease Control and Prevention, 1600 Clifton Road NE, MS-K80, Atlanta, Georgia 30329-4027, phone: (770) 488-8170, or email: cdc-cincinnati-eis@cdc.gov.

Dated: July 16, 2018.
Sandra Cashman,
Executive Secretary, Centers for Disease Control and Prevention.

[FR Doc. 2018-15410 Filed 7-19-18; 8:45 am]

BILLING CODE 4163-18-P